FEDERAL COMMUNICATIONS COMMISSION

[FR ID 262411]

Open Commission Meeting Thursday, November 21, 2024

November 14, 2024

The Federal Communications Commission will hold an Open Meeting on the subjects listed below on Thursday, November 21, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | International Affairs | Title: Review of Submarine Cable Landing License Rules and Procedures to Assess Evolving National Security, Law Enforcement, Foreign Policy, and Trade Policy Risks (OI Docket No. 24-523); Amendment of the Schedule of Application Fees Set Forth in Sections 1.1102 through 1.1109 of the Commission's Rules (MD Docket No. 24-524).
|  | Summary: The Commission will consider a Notice of Proposed Rulemaking that would undertake the first comprehensive review of the Commission's submarine cable rules since 2001. By this proceeding, the Commission seeks comment on how best to improve and streamline its submarine cable rules to facilitate efficient deployment of submarine cables while at the same time ensuring the security, resilience, and protection of this critical infrastructure.
2 | Wireline Competition | Title: Enhancing Caller ID Authentication Rules (WC Docket No. 17-97).
|  | Summary: The Commission will consider a Report and Order that would strengthen its caller ID authentication rules by authorizing the use of third parties in the authentication process subject to limits that ensure accountability for compliance with the STIR/SHAKEN standards.
3 | Media | Title: Amendment of Section 74.1231(i) of the Commission's Rules on FM Broadcast Booster Stations (MB Docket No. 20-401); Modernization of Media Initiative (MB Docket No. 17-105).
|  | Summary: The Commission will consider a Second Report and Order and Order on Reconsideration that would adopt final service rules that will enable FM and low power (LPFM) broadcasters to use FM booster stations to originate program content.
4 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2024-27076 Filed 11-19-24; 8:45 am]

BILLING CODE 6712-01-P